DEPARTMENT OF JUSTICE

Antitrust Division

Notice Pursuant to the National Cooperative Research and Production Act of 1993—National C4/Cyber Consortium (Formerly National Cyberspace Consortium)

Notice is hereby given that, on February 19, 2016, pursuant to section 6(a) of the National Cooperative Research and Production Act of 1993, 15 U.S.C. 4301 et seq. (“the Act”), National Cyberspace Consortium (“NCC”) has filed written notifications simultaneously with the Attorney General and the Federal Trade Commission disclosing changes in its membership, nature and objectives. The notifications were filed for the purpose of extending the Act's provisions limiting the recovery of antitrust plaintiffs to actual damages under specified circumstances. National Cyber Space Consortium has changed its name to National C4/Cyber Consortium (“NCC”). In addition, the following members have been added as parties to this venture: 8 Consulting, LLC, Arlington, VA; ARMUS Consulting LLC, Vero Beach, FL; BOLDLogic, Huntsville, AL; COLSA Corporation, Huntsville, AL; Command Decision Systems & Solutions, Inc., Stafford, VA; Cougaar Software, Inc., Vienna, VA; D2|TEAM-Sim, Somerset, NJ; Daniels & Gillespie Group, LLC, Huntsville, AL; Darkblade Systems, Stafford, VA; DIB ISAC, Huntsville, AL; FEDITC, LLC, San Antonio, TX; General Dynamics Advanced Information Systems, Inc. (GDAIS), Fairfax, VA; General Dynamics Land Systems Maneuver Collaboration Center (mc2), Sterling Heights, MI; Goldbelt Falcon, LLC, Chesapeake, VA; Information Analysis Incorporated, Fairfax, VA; International Business Machines (IBM), Armonk, NY; John H. Northrop & Associates, Inc., Clifton, VA; Keysight Technologies, Inc., Santa Rosa, CA; Liberty Business Associates, LLC, North Charleston, SC; Norse Corporation, Saint Louis, MO; Quantum Research International, Inc., Huntsville, AL; Rogue Digital, Northwich, ENGLAND; Sabre Systems, Inc., Warrington, PA; Secursion LLC, Clearfield, UT; Sentar, Inc., Huntsville, AL; SRA International, Inc., Fairfax, VA; SRC Consulting Group LLC, Oakland, CA; SRI International, Princeton, NJ; Thoughtly, Corp., Chicago, IL; University of California, Davis, CA; University of Pittsburgh, Pittsburgh, PA; and Venturi, Inc., Huntsville, AL.

The general area of NCC's planned activity is to develop and mature technologies in the critical fields of command, control, communications, computer, and cyber technologies.

No other changes have been made in either the membership or planned activity of the group research project. Membership in this group research project remains open, and NCC intends to file additional written notifications disclosing all changes in membership.

On December 3, 2015, NCC filed its original notification pursuant to section 6(a) of the Act. The Department of Justice published a notice in the Federal Register pursuant to section 6(b) of the Act on January 22, 2016 (81 FR 3822).

Patricia A. Brink,
Director of Civil Enforcement, Antitrust Division.

[FR Doc. 2016-06244 Filed 3-18-16; 8:45 am]

BILLING CODE P